DEPARTMENT OF COMMERCE

National Oceanic and Atmospheric Administration

RIN 0648-XB165

Fisheries of the South Atlantic; South Atlantic Fishery Management Council; Public Meeting

AGENCY: National Marine Fisheries Service (NMFS), National Oceanic and Atmospheric Administration (NOAA), Commerce.

ACTION: Notice of a public meeting of the South Atlantic Fishery Management Council's Technical Shrimp Review Panel.

SUMMARY: The South Atlantic Fishery Management Council (SAFMC) will hold a meeting of its Technical Shrimp Review Panel via Webinar. See SUPPLEMENTARY INFORMATION.

DATES: The meeting will take place May 2, 2012. See SUPPLEMENTARY INFORMATION.

ADDRESSES: The meeting will be held via webinar. The webinar is open to members of the public. Those interested in participating should contact Kim Iverson (See FOR FURTHER INFORMATION CONTACT) to request an invitation providing webinar access information.

FOR FURTHER INFORMATION CONTACT: Kim Iverson, Public Information Officer, South Atlantic Fishery Management Council, 4055 Faber Place Drive, Suite 201, N. Charleston, SC, 29405; telephone: (843) 571-4366 or toll free (866) SAFMC-10; fax: (843) 769-4520; email: kim.iverson@safmc.net.

SUPPLEMENTARY INFORMATION: Members of the Shrimp Review Panel will meet via webinar from 9 a.m. until 11 a.m. on May 2, 2012. The focus of the meeting will be to recommend changes in the biological parameters and survey methods used in determining the stock abundance of pink shrimp. This information will be used in developing Amendment 9 to the Shrimp Fishery Management Plan, which includes an action for revising methods to be better determine the Minimum Stock Size Threshold (MSST) for pink shrimp.

Special Accommodations

The meeting is physically accessible to people with disabilities. Requests for auxiliary aids should be directed to the Council office (see ADDRESSES) 3 days prior to the meeting.

Note: The times and sequence specified in this agenda are subject to change.

Dated: April 10, 2012.
Tracey L. Thompson,
Acting Director, Office of Sustainable Fisheries, National Marine Fisheries Service.

[FR Doc. 2012-8910 Filed 4-12-12; 8:45 am]

BILLING CODE 3510-22-P